DEPARTMENT OF COMMERCE

National Oceanic and Atmospheric Administration

RIN 0648-XA919

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee (SSC) to consider actions affecting New England fisheries in the exclusive economic zone (EEZ). Recommendations from this group will be brought to the full Council for formal consideration and action, if appropriate.

DATES: This meeting will be held on Wednesday, January 25, 2012 at 8 a.m.

ADDRESSES: The meeting will be held at the Hotel Providence, 139 Mathewson Street Providence, RI 02903; telephone: (401) 861-8000; fax: (401) 861-8002.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The NEFMC's Scientific and Statistical Committee will:

a. Review the 2011 Gulf of Maine (GOM) cod assessment to become familiar with its assumptions and results;

b. Identify information that was not previously considered and that may influence the interpretation of the assessment results; specify whether the possible influence of these elements warrants a closer examination at a future SSC or other meeting; and provide advice on the structure and timing of any future meeting the SSC believes is warranted; and

c. Review a range of catch levels for GOM cod provided by the Council's Groundfish Plan Development Team (PDT) and recommend an interim catch level for 2012 if warranted. This last step may occur at a meeting yet to be scheduled and pending the results of the January 25, 2012 meeting.

d. Other business may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: January 3, 2012.
Tracey L. Thompson,
Acting Director, Office of Sustainable Fisheries, National Marine Fisheries Service.

[FR Doc. 2012-38 Filed 1-5-12; 8:45 am]

BILLING CODE 3510-22-P